DEPARTMENT OF HEALTH AND HUMAN SERVICES

Centers for Disease Control and Prevention

[30Day-17-1146]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Survey of Surveillance Records of Aedes aegypti and Aedes albopictus from 1960 to Present (OMB Control Number 0920-1146, expiration date 11/30/2019)—Revision—National Center for Emerging and Zoonotic Infectious Diseases (NCEZID), Centers for Disease Control and Prevention (CDC).

Background and Brief Description

The Zika virus response necessitates the collection of county and sub-county level records for Aedes aegypti and Ae. albopictus, the vectors of Zika virus. This information will be used to update species distribution maps for the United States and to develop a model aimed at identifying where these vectors can survive and reproduce. CDC is seeking to revise the collection approved under OMB Control number 0920-1146 for clearance to collect information for three years.

In February 2016, OMB issued emergency clearance for a county-level survey of vector surveillance records for a limited number of years (2006-2015) (OMB Control No. 0920-1101, expiration date 8/31/2016). OMB then issued clearance for a follow-up information collection similar to the first (OMB Control No. 0920-1146, expiration date 11/30/2019) but expanded the years that were evaluated. The information collection in this request will be very similar of those surveys, but will collect these data monthly going forward.

The previous two surveys aimed to describe the reported distribution of the Zika virus vectors Aedes aegypti and Ae. albopictus from 1960 until late 2016 at county and sub-county spatial scales. The 56 year data review was necessary because many recent records for these species of mosquitos were lacking, likely because from 2004-2015 most vector surveillance focused on vectors of West Nile virus (Culex spp.) rather than Zika vectors. The surveys yielded important data allowing CDC, states, and partners to understand the spread of these mosquitos in the U.S. as well as the environmental conditions necessary for them to survive. The surveys reviewed data records from 1960-2016 and resulted in a complete assessment of historical records of mosquito surveillance but were not designed to collect these types of data routinely over time.

In this revision, we will also seek information on locations of the mosquito traps at sub-county spatial scales through an online data portal called MosquitoNET (https://www.cdc.gov/Arbonet/MosquitoNET) and will be expanded to include insecticide susceptibility and resistance data on local populations of mosquitos. Data will be collected monthly through the expiration date of this OMB approval. Such information will aid in (1) targeting vector control efforts to prevent mosquito-borne Zika virus transmission in the continental U.S. and (2) targeting future vector surveillance efforts. The resulting maps and models will inform the public and policy makers of the known distribution of these vectors, identify gaps in vector surveillance, and target allocation of surveillance and prevention resources.

As part of the Zika response, efforts to identify Ae. aegypti and Ae. albopictus in the continental U.S. were substantially enhanced during 2016 and funding will be provided to states to continue to enhance surveillance for these vectors through the longstanding Epidemiology and Laboratory Capacity Program that was expanded to now include mosquito surveillance.

Respondents will include public health professionals who are recipients of ELC funding or their designated points of contact. The respondents will be contacted via ELC primary recipients and instructed to set up accounts on the MosquitoNET Web site via a simple process. Data collection from ELC recipients will then begin. In order to limit the burden of data entry on respondents who may be entering information for their state, they will have the option of submitting the data via email to CDC using an excel survey.

This information collection request is authorized by Section 301 of the Public Health Service Act (42 U.S.C. 241). The total estimated annualized number of burden hours is 189. There will be no anticipated costs to respondents other than time.

Estimated Annualized Burden Hours
Type of respondents | Form name | Number of respondents | Number of responses per respondent | Average burden per response (in hours)
Public health professionals | MosquitoNET entry of monthly surveillance records of Aedes aegypti and Aedes albopictus | 64 | 12 | 15/60

Leroy A. Richardson,
Chief, Information Collection Review Office, Office of Scientific Integrity, Office of the Associate Director for Science, Office of the Director, Centers for Disease Control and Prevention.

[FR Doc. 2017-14027 Filed 7-3-17; 8:45 am]

BILLING CODE 4163-18-P